DEPARTMENT OF HOMELAND SECURITY

Notice of Availability for the Patient Decontamination in a Mass Chemical Exposure Incident: National Planning Guidance for Communities

AGENCY: Office of Health Affairs, DHS.

ACTION: Notice of availability.

SUMMARY: The Chemical Defense Program (CDP), under the Department of Homeland Security Office of Health Affairs (OHA), and the Office of the Assistant Secretary for Preparedness and Response (ASPR), under the Department of Health and Human Services (HHS), have published the document titled “Patient Decontamination in a Mass Chemical Exposure Incident: National Planning Guidance for Communities.” The document is available on the following website: http://www.phe.gov/Preparedness/responders/Pages/patientdecon.aspx

SUPPLEMENTARY INFORMATION: This guidance document is developed for senior leaders, planners, incident commanders, emergency managers, and trainers of local response organizations and health care facilities; it contains strategic-level, evidence-based best practices for use when planning and conducting patient decontamination in a mass chemical casualty incident. The subject matter is focused on external decontamination of living people exposed to toxic industrial chemicals (TICs), toxic industrial materials (TIMs) or chemical warfare agents (CWAs) resulting from either an intentional or accidental release. The guidance document provides an approach that is flexible and scalable according to the resource and capability limitations of the organization. The recommendations, therefore, are adaptable to each unique community as it sees fit. The principles set forth in this guidance document are strategic-level and designed to guide communities' planning efforts rather than specify operational practices. The guidance is evidence-based using currently available scientific research to the extent possible, and the supporting evidence is documented and briefly discussed.

This document was released for public comment on April 2, 2014 under Docket Number DHS-2014-0012. Approximately 200 comments were received during the 45-day comment period. The comments were then adjudicated by a working group comprising the primary authors from DHS/OHA and HHS/ASPR.

FOR FURTHER INFORMATION CONTACT:

Dr. Mark Kirk at mark.kirk@hq.dhs.gov or

Dr. Susan Cibulsky at susan.cibulsky@hhs.gov.

Dated: December 12, 2014.
Mark A. Kirk,
Director, Chemical Defense Program.

[FR Doc. 2014-29779 Filed 12-18-14; 8:45 am]

BILLING CODE 9110-9K-P